DEPARTMENT OF AGRICULTURE

Forest Service

North Elkhorns Project; Including Timber Harvest and Prescribed Fire. Helena National Forest, Jefferson County, Montana.

AGENCY: Forest Service, USDA.

ACTION: Notice; intent to prepare environmental impact statement.

SUMMARY: The USDA, Forest Service is gathering information and preparing an Environmental Impact Statement (EIS) for the North Elkhorns Vegetation Project located approximately 9 air miles southeast of Helena, Montana.

The Forest Service proposes to thin, using commercial timber harvest, approximately 745 acres in the E-4 Management Area of the Elkhorn Wildlife Management Unit.

The biggest and healthiest trees would remain on the site, and the many scattered aspen stands would be revitalized through a combination of treatments, including some fence construction. The thinning treatment would require construction of about 1 mile of temporary road and reconstruction of about 6.5 miles of existing road. Following thinning, the area would be treated with low intensity fire and the temporary and reconstructed road segments would be returned to contour and revegetated.

The proposal is designed to help restore the full range of wildlife habitats in the Elkhorn Wildlife Management Unit. The project will have other benefits including the reduction of wildfire risk in the urban interface.

The project also would authorize the construction of 1500 feet of non-motorized trail to connect two existing non-motorized trails and formally designate 3.5 miles of existing road which is currently closed to motorized use as part of the non-motorized trail system.

COMMENTS: Comments concerning the proposal should be submitted to the responsible official and received in writing on or before January 25, 2001.

ADDRESSES: The responsible official is Thomas J. Clifford, Forest Supervisor, Helena National Forest, Supervisor's Office, 2880 Skyway Drive, Helena, MT. 59601. Phone: (406) 449-5201.

FOR FURTHER INFORMATION CONTACT: Jodie Canfield, Wildlife Biologist and Interagency Elkhorn Coordinator, Townsend Ranger District, 415 South Front, Townsend, MT 59644. Phone: (406) 266-3425.

SUPPLEMENTARY INFORMATION: The project would occur on National Forest lands of the Helena Ranger District. The activities would take place within portions of Sections 1, 2 and 12 of T.8N., R.3W. and Sections 5, 6 and 7 of T.8N., R.3W., and a portion of Section 31, T.9N., R.3W., Montana Principle Meridian.

The proposed treatments are not within a roadless area, but are within the Elkhorns Wildlife management Unit (within Management Area (E-4) of the Helena Forest Plan). This management area features an emphasis on habitat management for moose, elk and mule deer. The management standards include the implementation of wildlife habitat improvement practices, including prescribed fire and timber manipulation to maintain and enhance aspen and willow regeneration and other forested areas for wildlife habitat. (Helena Forest Plan, page III-90). The decisions to be made, based on this environmental analysis, are whether or not to treat the vegetation at this time, and if so, how would the treatments be accomplished.

This EIS will tier to the Helena Forest Plan Final EIS of April 1986, that provides program goals, objectives, and standards and guidelines for conducting management activities in this area. All activities associated with the proposal will be designed to implement the resource goals and standards identified in the Forest Plan.

The Forest Service is seeking information and comments from Federal, State, and local agencies together with organizations or individuals who may be interested in or affected by the proposed action. The Forest Service invites written comments and suggestions on the issues for the proposal and the area being analyzed. Information received will be used in preparation of the Draft EIS.

Preparation of the EIS will include the following steps:

1. Identification of issues to be analyzed in depth.

2. Identification of additional reasonable alternatives.

3. Identification of potential environmental effects of the alternatives.

Commercial timber harvest will be used to restore important habitat that is currently nonexistant in the Wildlife Management Unit by thinning of individual trees while leaving the largest and healthiest trees on site, and by opening the stand such that fire can be reintroduced with minimal risk of killing the overstory trees. Following harvest, forests will be underburned to stimulate the regeneration of grasses, forbs, aspen and willow.

Alternatives to this proposal will include the “no action” alternative, in which none of the proposed treatments would be implemented. Other alternatives will examine variations in the location, amount and method of vegetative management.

The preliminary issues identified are:

1. What wildlife species are benefited? Are there any wildlife species at risk that would be affected?

2. What is the effect of the project on recreation?

3. What effect will be project have on reducing the risk of catastrophic wildfire in the urban interface?

4. What are the risks to nearby landowners relative to logging and burning operations?

The Forest Service will analyze and disclose in the DEIS and FEIS the environmental effects of the proposed action and a reasonable range of alternatives. The DEIS and FEIS will disclose the direct, indirect and cumulative environmental effects of each alternative and its associated site specific mitigation measures.

Public participation is especially important at several points of the analysis. Interested parties may visit with Forest Service officials at any time during the analysis. However, two periods of time are specifically identified for the receipt of comments. The first comment period is during the scoping process when the public is invited to give written comments to the Forest Service within 45 days of the publication of the Notice of Intent. The second review period is during the 45 day review of the DEIS when the public is invited to comment on the DEIS.

The DEIS is expected to be filed with the Environmental Protection Agency (EPA) and available for public review in February 2001. At that time, the EPA will publish a notice of availability of the DEIS in the Federal Register.

The comment period on the DEIS will be 45 days from the date the notice of availability is published in the Federal Register.

At this early stage in the scoping process, the Forest Service believes it is important to give reviewers notice of several court rulings related to public participation in the environmental review process. First, reviews of DEIS must structure their participation in the environmental review of the proposal so that it is meaningful and alerts an agency to the reviewer's position and contentions. Vermont Yankee Nuclear Power Corp. v. NRDC, 435 U.S. 519, 553 (1978). Secondly, environmental objections that could be raised at the draft environmental impact statement stage, but that are not raised until after completion of the FEIS may be waived or dismissed by the courts. City of Angoon v. Hodel, 803 F. 2d 1016, 1022 (9th cir. 1986) and Wisconsin Heritages, Inc. v. Harris, 490 F. Supp. 1338 (E.D. Wis. 1980). Because of these court rulings, it is very important that those interested in this proposed action participate by the close of the 45-day comment period so that substantive comments and objections are made available to the Forest Service at a time when it can meaningfully consider them and respond to them in the FEIS.

To assist the Forest Service in identifying and considering issues and concerns on the proposed action, comments on the DEIS should be as specific as possible. It is also helpful if comments refer to specific pages or chapters of the draft statement. Comments may also address the adequacy of the DEIS or the merits of the alternatives formulated and discussed in the statement. (Reviewers may wish to refer to the Council on Environmental Quality Regulations for implementing the procedural provisions of the National Environmental Policy Act at 40 CFR 1503.3 in addressing these points.)

After the comment period ends on the DEIS, the comments will be analyzed and considered by the Forest Service in preparing the FEIS. The FEIS is expected to be filed in July 2001.

Dated: November 22, 2000.
Thomas J. Clifford,
Forest Supervisor, Helena National Forest.

[FR Doc. 00-31368 Filed 12-8-00; 8:45 am]

BILLING CODE 3410-11-M